EXECUTIVE OFFICE OF THE PRESIDENT

Office of National Drug Control Policy

Submission for Review: Survey on the Treatment of Opioid Use Disorders

AGENCY: Office of National Drug Control Policy.

ACTION: 30-Day notice and request for comments.

SUMMARY: In accordance with the Paperwork Reduction Act of 1995, the Office of National Drug Control Policy (ONDCP) announces it will submit to the Office of Management and Budget (OMB) and Office of Information and Regulatory Affairs (OIRA) an information collection request. This proposed information collection was previously published in the Federal Register of October 8, 2019 and allowed 60 days for public comment. No public comments were received. The purpose of this notice is to allow an additional 30 days for public comment.

DATES: ONDCP encourages and will accept public comments on or before 30 days after the date of this publication.

ADDRESSES: Address all comments in writing within 30 days to Jayme Delano, Deputy Director, National HIDTA Program Office. Email is the most reliable means of communication. Ms. Delano's email address is Jayme_A_Delano@ondcp.eop.gov.

FOR FURTHER INFORMATION CONTACT: To request more information on the proposed project or to obtain a copy of the data collection plans and instruments, contact the Executive Office of the President, Office of National Drug Control Policy, attention: Jayme Delano or sent via electronic mail at Jayme_A_Delano@ondcp.eop.gov. Formal requests for additional plans and instruments must be in writing. Copies of documents submitted to OMB and other information is available from Ms. Delano who may be contacted at 202-395-6794.

SUPPLEMENTARY INFORMATION: The Office of National Drug Control Policy desires to learn how adult drug courts are responding to the opioid epidemic. To do so, we propose to conduct a survey of 269 drug courts in the counties with the highest total opioid-related overdoses and the highest opioid-related overdose rates. The aim of the survey is to learn more about adult drug courts' efforts to serve persons suffering from opioid use disorders, focusing particularly on the use of medication-assisted treatment (MAT). An earlier survey from 2012 found that nearly half of drug courts were not using MAT or had blanket prohibitions against methadone or buprenorphine. At the same time, ONDCP funded a suite of resources to increase uptake of MAT in treatment courts, including online and in-person training workshops, practitioner fact sheets, pocket guides for staff members and participants, professional tool kits, and sample policies and procedures materials. The proposed survey will examine what impact these and other efforts have had in making MAT more widely available to patients in need of these lifesaving treatments and enhancing practitioner knowledge and acceptance. ONDCP published this information collection on October 8, 2019 at 84 FR 53762.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Overview of Information Collection

Title of information collection: Survey on the Treatment of Opioid Use Disorders.

Method of data collection: Electronic survey.

Frequency: One-time data collection.

Members of affected public: Administrators in drug courts in the counties with the highest total opioid-related overdoses and the highest opioid-related overdose rates.

Estimation of the total numbers of hours needed to prepare the information collection including number of respondents, frequency of response, and hours of response:

Number of respondents: 269.

Frequency of response: 1.

Average time per response: 15 minutes.

Annual hour burden: 67 hours.

Status of the proposed information collection: New.

Dated: December 9, 2019.
Michael Passante,
Acting General Counsel.

[FR Doc. 2019-26793 Filed 12-11-19; 8:45 am]

BILLING CODE 3280-F5-P